FEDERAL COMMUNICATIONS COMMISSION

47 CFR Part 51

[WC Docket No. 18-155; FCC 23-31; FR ID 187323]

Updating the Intercarrier Compensation Regime To Eliminate Access Arbitrage

AGENCY: Federal Communications Commission.

ACTION: Final rule; announcement of effective and compliance dates.

SUMMARY: In this document, the Federal Communications Commission (Commission) announces that the Office of Management and Budget (OMB) has approved, for a period of three years, the information collection associated with rules for notifications related to access stimulation adopted in the Second Report and Order, FCC 23-31 (April 21, 2023) (Access Arbitrage Second Report and Order), which was summarized in a document published on June 1, 2023. This document is consistent with the Access Arbitrage Second Report and Order and its summary.

DATES: The additions of 47 CFR 51.914(d) and (g) (instruction 3), published at 88 FR 35743, on June 1, 2023, and delayed indefinitely, are effective January 2, 2024. This rule is effective January 2, 2024. Compliance with this rule and the additions of § 51.914(d) and (g) is required by February 16, 2024.

FOR FURTHER INFORMATION CONTACT: Susan Bahr, Attorney Advisor, Pricing Policy Division, Wireline Competition Bureau, at (202) 418-0573, or Susan.Bahr@fcc.gov. For additional information concerning the Paperwork Reduction Act information collection requirements, contact Nicole Ongele at (202) 418-2991, or Nicole.Ongele@fcc.gov.

SUPPLEMENTARY INFORMATION: The Commission submitted information collection requirements for review and approval by OMB, as required by the Paperwork Reduction Act (PRA) of 1995, on August 30, 2023, and the information collections were approved by OMB on November 7, 2023. The information collection requirements are found in the Commission's Updating the Intercarrier Compensation Regime to Eliminate Access Arbitrage, WC Docket No. 18-155, Second Report and Order, FCC 23-31 (April 21, 2023), which was summarized in 88 FR 35743, on June 1, 2023. The OMB Control Number is 3060-0298. The Commission publishes this document as an announcement of the effective and compliance dates of the rules published on June 1, 2023. If you have any comments on the burden estimates listed below, or how the Commission can improve the collections and reduce any burdens caused thereby, please contact Nicole Ongele, Federal Communications Commission, 45 L Street NE, Washington, DC 20554, regarding OMB Control Number 3060-0298. Please include the applicable OMB Control Number in your correspondence. The Commission will also accept your comments via email at PRA@fcc.gov.

To request materials in accessible formats for people with disabilities (Braille, large print, electronic files, audio format), send an email to fcc504@fcc.gov or call the Consumer and Governmental Affairs Bureau at (202) 418-0530 (voice), or (202) 418-0432 (TTY).

Synopsis

As required by the Paperwork Reduction Act of 1995 (44 U.S.C. 3507), the Commission is notifying the public that it received OMB approval on November 7, 2023, for the information collection requirements contained in 47 CFR 51.914(d) and (g), published at 88 FR 35743, on June 1, 2023. Those sections have been delayed indefinitely, but are now added to 47 CFR 51.914 and will be effective January 2, 2024. In addition, the text in the delayed § 51.914(d) which states “[the effective date of this paragraph (d)—which will be 30 days after the Commission publishes the notification of OMB approval in the Federal Register]” is replaced with January 2, 2024.

This document also revises § 51.914(e) and (f) to add a reference to § 51.914(d). The references to § 51.914(d) in § 51.914(e) and (f) in the Access Arbitrage Second Report and Order were not added to CFR pending the receipt of OMB approval for § 51.914(d). These revisions to § 51.914(e) and (f) are effective on January 2, 2024.

Under 5 CFR part 1320, an agency may not conduct or sponsor a collection of information unless it displays a current, valid OMB Control Number.

No person shall be subject to any penalty for failing to comply with a collection of information subject to the Paperwork Reduction Act that does not display a current, valid OMB Control Number. The OMB Control Number is 3060-0298.

The foregoing notification is required by the Paperwork Reduction Act of 1995, Public Law 104-13, October 1, 1995, and 44 U.S.C. 3507.

The total annual reporting burdens and costs for the respondents are as follows:

OMB Control Number: 3060-0298.

OMB Approval Date: November 7, 2023.

OMB Expiration Date: November 30, 2026.

Title: Part 61, Tariffs (Other than the Tariff Review Plan).

Form Number: N/A.

Respondents: Business or other for-profit entities.

Number of Respondents and Responses: 3,834 respondents; 4,659 responses.

Estimated Time per Response: 1 hour-50 hours.

Frequency of Response: On occasion, annual, biennial and one-time reporting requirements.

Obligation to Respond: Required to obtain or retain benefits. Statutory authority for this information collection is contained in sections 151-155, 201-205, 208, 251-271, 403, 502 and 503 of the Communications Act of 1934, as amended (the Act), 47 U.S.C. 151-155, 201-205, 208, 251-271, 403, 502 and 503.

Total Annual Burden: 171,378 hours.

Total Annual Cost: $604,000.

Needs and Uses: On April 21, 2023, the Commission released the Access Arbitrage Second Report and Order, WC Docket No. 18-155, FCC 23-31, 88 FR 35743, which added rules applicable to internet Protocol Enabled Service (IPES) Providers engaged in Access Stimulation. In the Access Arbitrage Second Report and Order, the Commission adopted rules requiring that access-stimulating IPES Providers provide notice of their status to the Commission by filing a record of their access-stimulating status in the Commission's Access Arbitrage docket, and to provide notice to any affected Interexchange Carriers (IXCs) and Intermediate Access Providers of the same, within 45 days of the effective date of that requirement after approval of that information collection by OMB (or for an entity that later engages in access stimulation, 45 days from the date it commences access stimulation). If, after the effective date of this requirement, an access-stimulating IPES Provider is no longer engaged in Access Stimulation, the IPES Provider must file notice of that change in status with the Commission and with any affected IXCs and Intermediate Access Providers.

The revisions to this collection reflect the notice and reporting requirements adopted by the Commission in the Access Arbitrage Second Report and Order. The information provided by IPES Providers pursuant to rules adopted in the Access Arbitrage Second Report and Order informs interested parties of an entity's engagement in Access Stimulation.

List of Subjects in 47 CFR Part 51

Communications; Communications common carriers, Telecommunications; Telephones.

Federal Communications Commission.
Marlene Dortch,
Secretary, Office of the Secretary.

Final Rules

For the reasons discussed in the preamble, the Federal Communications Commission amends 47 CFR part 51 as follows:

PART 51—INTERCONNECTION

1. The authority citation for part 51 continues to read as follows:

Authority: 47 U.S.C. 151-55, 201-05, 207-09, 218, 225-27, 251-52, 271, 332 unless otherwise noted.

2. Amend § 51.914 by revising paragraphs (d) through (f) to read as follows:

§ 51.914 Additional provisions applicable to Access Stimulation traffic.

* * * * *

(d) Notwithstanding any other provision of this part, if an internet Protocol Enabled Service (IPES) Provider, as defined in § 61.3(eee) of this chapter, is engaged in Access Stimulation, as defined in § 61.3(bbb) of this chapter, it shall, within 45 days of commencing Access Stimulation, or within 45 days after January 2, 2024, whichever is later, notify in writing the Commission, all Intermediate Access Providers that it subtends, and Interexchange Carriers with which it does business of the following:

(1) That it is an IPES Provider engaged in Access Stimulation; and

(2) That it shall designate the Intermediate Access Provider(s), if any, that will provide the terminating switched access tandem switching or terminating switched access tandem transport services directly, or indirectly through a local exchange carrier, to the IPES Provider engaged in Access Stimulation; and

(3) Whether the IPES Provider will pay for those services as of that date.

(e) In the event that an Intermediate Access Provider receives notice under paragraph (b) or (d) of this section that it has been designated to provide terminating switched access tandem switching or terminating switched access tandem transport services to a local exchange carrier engaged in Access Stimulation, as defined in § 61.3(bbb) of this chapter, or to an IPES Provider engaged in Access Stimulation, directly, or indirectly through a local exchange carrier, and that local exchange carrier engaged in Access Stimulation shall pay or the IPES Provider engaged in Access Stimulation may pay for such terminating access service from such Intermediate Access Provider, the Intermediate Access Provider shall not bill Interexchange Carriers for interstate or intrastate terminating switched access tandem switching or terminating switched access tandem transport service for traffic bound for such local exchange carrier or IPES Provider but, instead, shall bill such local exchange carrier or may bill such IPES Provider for such services.

(f) Notwithstanding paragraphs (a) through (d) of this section, any local exchange carrier that is not itself engaged in Access Stimulation, as that term is defined in § 61.3(bbb) of this chapter, but serves as an Intermediate Access Provider with respect to traffic bound for a local exchange carrier engaged in Access Stimulation or bound for an IPES Provider engaged in Access Stimulation, shall not itself be deemed a local exchange carrier engaged in Access Stimulation or be affected by paragraphs (a) and (b) of this section.

* * * * *

[FR Doc. 2023-26349 Filed 11-30-23; 8:45 am]

BILLING CODE 6712-01-P